DEPARTMENT OF ENERGY

Federal Energy Regulatory Commission

[Docket No. RP99-480-003]

Texas Eastern Transmission, LP; Notice of Negotiated Rate Filing

December 19, 2002.

Take notice that on December 16, 2002, Texas Eastern Transmission, LP (Texas Eastern) tendered for filing as part of its FERC Gas Tariff, Seventh Revised Volume No. 1, Original Sheet No. 106, listing Middle Tennessee Natural Gas Utility District (Middle Tennessee) as a party to a negotiated rate agreement, as well as the negotiated rate agreement between Middle Tennessee and Texas Eastern under Rate Schedule FT-1 (Negotiated Rate Agreement), attached to the filing as Appendix A. Texas Eastern requests that the Commission grant all necessary waivers and accept for filing the tariff sheet and the Negotiated Rate Agreement to become effective December 1, 2002.

Texas Eastern states that copies of the filing were mailed to all affected customers of Texas Eastern and interested state commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Intervention Date: December 30, 2002.

Linwood A. Watson, Jr.,
Deputy Secretary.

[FR Doc. 02-32561 Filed 12-24-02; 8:45 am]

BILLING CODE 6717-01-P